FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 7, 2016.

A. Federal Reserve Bank of Atlanta (Chapelle Davis, Assistant Vice President) 1000 Peachtree Street NE., Atlanta, Georgia 30309. Comments can also be sent electronically to Applications.Comments@atl.frb.org:

1. The FGB Term Trust, Robert H. Godwin, and Edward E. Haddock, Jr., all of Winter Park, Florida, and Al Thomas, Fort Lauderdale, Florida; to collectively acquire 25.2 percent of the outstanding shares of First Green Bancorp, Inc., and thereby acquire First Green Bank, both of Mount Dora, Florida.

B. Federal Reserve Bank of Minneapolis (Jacquelyn K. Brunmeier, Assistant Vice President) 90 Hennepin Avenue, Minneapolis, Minnesota 55480-0291:

1. Alix E. Behm, Willmar, Minnesota; to retain 25 percent or more of the shares of Kandiyohi Bancshares, Inc., Willmar, Minnesota, and thereby indirectly retain control of Home State Bank, Litchfield, Minnesota.

Board of Governors of the Federal Reserve System, October 19, 2016.
Yao-Chin Chao,
Assistant Secretary of the Board.

[FR Doc. 2016-25665 Filed 10-21-16; 8:45 am]

BILLING CODE 6210-01-P